DEPARTMENT OF AGRICULTURE

Forest Service

Notice of a Meeting of the Northeast Oregon Forests Resource Advisory Committee (RAC)

AGENCY: Forest Service, USDA.

ACTION: Notice of meeting.

SUMMARY: Pursuant to the authorities in the Federal Advisory Committees Act (Pub. L. 92-463), the Northeast Oregon Forest Resource Advisory Committee (RAC) will meet on May 19, 2011 in John Day, Oregon. The purpose of the meeting is to meet as a Committee to discuss selection of Title II projects under Public Law 110-343, H.R. 1424, the Reauthorization of the Secure Rural Schools and community Self-Determination Act of 2000 (16 U.S.C. 500 note; Pub. L. 106-393), also called “Payments to States” Act.

DATES: The meeting will be held on May 19, 2011, from 9 a.m to 4 p.m.

ADDRESSES: The meeting will be held in the Outpost Pizza and Grill, 201 West Main Street, John Day, Oregon.

FOR FURTHER INFORMATION CONTACT: Kurt Wiedenmann, Designated Federal Official, USDA, Wallowa-Whitman National Forest, La Grande Ranger District, 3502 Highway 30, La Grande, Oregon 97850; Telephone: (541)-962-8582.

SUPPLEMENTARY INFORMATION: This will be the third meeting of the Committee since reauthorization of Public Law 106-393. The meeting will focus on introducing new Committee members, becoming familiar with duties and responsibilities, selecting a chairperson, reviewing and recommending 2009 and 2010 project proposals that meet the intent of the Act. The meeting is open to the public. A public input opportunity will be provided at 1:00 p.m., and individuals will have the opportunity to address the committee at that time.

Dated: April 26, 2011.
Monica J. Schwalbach,
Forest Supervisor.

[FR Doc. 2011-10696 Filed 5-2-11; 8:45 am]

BILLING CODE 3410-11-P